DEPARTMENT OF LABOR

Office of the Secretary

Job Corps: Final Finding of No Significant Impact (FONSI) for the Proposed Job Corps Center To Be Located on Dunbarton Road, Manchester, NH

AGENCY: Office of the Secretary (OSEC), Department of Labor.

ACTION: Final Finding of No Significant Impact (FONSI) for the proposed Job Corps Center to be located on Dunbarton Road, Manchester, New Hampshire.

SUMMARY: Pursuant to the Council on Environmental Quality Regulations (40 CFR part 1500-08) implementing procedural provisions of the National Environmental Policy Act (NEPA), the Department of Labor, Office of the Secretary (OSEC), in accordance with 29 CFR 11.11(d), gives final notice of the proposed construction of a new Job Corps Center located in Manchester, New Hampshire, and that this construction will not have a significant adverse impact on the environment. In accordance with 29 CFR 11.11(d) and 40 CFR 1501.4(e)(2), a preliminary FONSI for the new Job Corps Center was published in the February 1, 2008 Federal Register (73 FR Pages 6208-6209). No comments were received regarding the preliminary FONSI. OSEC has reviewed the conclusion of the environmental assessment (EA), and agrees with the finding of no significant impact. This notice serves as the Final Finding of No Significant Impact for the new Job Corps Center located on Dunbarton Road, Manchester, New Hampshire. The preliminary FONSI and the EA are adopted in final with no change.

DATES: Effective Date: These findings are effective as of April 1, 2008.

FOR FURTHER INFORMATION CONTACT: Edward C. Campbell, Realty Officer, Department of Labor, U.S. Department of Labor, 200 Constitution Avenue, NW., Room S-1508, Washington, DC 20210, (202) 693-6653 (this is not a toll-free number).

Dated: April 3, 2008.
Esther R. Johnson,
National Director of Job Corps.

[FR Doc. E8-7568 Filed 4-9-08; 8:45 am]

BILLING CODE 4510-23-P